FEDERAL COMMUNICATIONS COMMISSION

47 CFR Part 73

[DA 01-1393; MM Docket No. 01-123, RM-10139; MM Docket No. 01-124; RM-10140]

Radio Broadcasting Services; Darien, GA; and Pearsall, TX

AGENCY: Federal Communications Commission.

ACTION: Proposed rule.

SUMMARY: This document proposes two allotments. The Commission requests comments on a petition filed by Bernice P. Hedrick proposing the allotment of Channel 262A at Darien, Georgia, as the community's second local FM transmission service. Channel 262A can be allotted to Darien in compliance with the Commission's minimum distance separation requirements with a site restriction of 9.8 kilometers (6.1 miles) northeast to avoid a short-spacing to the licensed site of Station WOBB(FM), Channel 262C, Tifton, Georgia. The coordinates for Channel 262A at Darien are 31-26-32 North Latitude and 81-22-32 West Longitude. The Commission requests comments on a petition filed by Charles Crawford proposing the allotment of Channel 227A at Pearsall, Texas, as the community's third local FM transmission service. Channel 227A can be allotted to Pearsall in compliance with the Commission's minimum distance separation requirements with a site restriction of 12 kilometers (7.4 miles) west of the community. The coordinates for Channel 227A at Pearsall are 28-54-16 North Latitude and 99-12-59 West Longitude.

DATES: Comments must be filed on or before July 30, 2001, and reply comments on or before August 14, 2001.

ADDRESSES: Federal Communications Commission, Washington, DC 20554. In addition to filing comments with the FCC, interested parties should serve the petitioner, his counsel, or consultant, as follows: H. David Hedrick, P.O. Box 27, Gray, Georgia 31032 (Consultant for Bernice P. Hedrick); and Charles Crawford, 4553 Bordeaux Ave., Dallas, Texas 75205 (Petitioner for Pearsall, Texas).

FOR FURTHER INFORMATION CONTACT: Sharon P. McDonald, Mass Media Bureau, (202) 418-2180.

SUPPLEMENTARY INFORMATION: This is a synopsis of the Commission's Notice of Proposed Rule Making, MM Docket No. 01-123 and MM Docket No. 01-124, adopted May 30, 2001, and released June 8, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 01-15976 Filed 6-25-01; 8:45 am]

BILLING CODE 6712-01-P